FEDERAL LABOR RELATIONS AUTHORITY

5 CFR Parts 2424, 2429, 2471, 2472, and Chapter XIV

Amended Telephone Numbers

AGENCY: Federal Labor Relations Authority, General Counsel of the Federal Labor Relations Authority, and Federal Service Impasses Panel.

ACTION: Amendment of rules and regulations.

SUMMARY: The Federal Labor Relations Authority, the General Counsel of the Federal Labor Relations Authority, and the Federal Service Impasses Panel have relocated their headquarters offices. Amendments to 5 CFR Chapter XIV, reflecting the change in the addresses, telephone numbers, and fax numbers for these offices, were published in the Federal Register, 68 FR 10953, Mar. 7, 2003. It is necessary to further amend certain telephone numbers.

EFFECTIVE DATE: May 6, 2003.

FOR FURTHER INFORMATION CONTACT: Yvonne Thomas, Director, Administrative Services Division, (202) 218-7750.

SUPPLEMENTARY INFORMATION: Paragraphs (a), (b), (c), and (e) of Appendix A to 5 CFR Chapter XIV set forth, among other things, the telephone numbers of the headquarters offices of the Authority, the General Counsel, the Chief Administrative Law Judge of the Authority, and the Federal Service Impasses Panel, respectively. 5 CFR 2424.10 sets forth, among other things, the telephone number of the Authority's Collaboration and Alternative Dispute Resolution Program; 5 CFR 2429.24(a) sets forth the telephone number of the Authority's Docket Room, located in its Case Control Office; and 5 CFR 2471.2, 2471.4, 2472.3, and 2472.5 set forth the telephone number of the Federal Service Impasses Panel. Because of changes to these telephone numbers, it is necessary to further revise these provisions of the agency's regulations.

Regulatory Flexibility Act Certification

Pursuant to section 605(b) of the Regulatory Flexibility Act, 5 U.S.C. 605(b), the Federal Labor Relations Authority has determined that these regulations, as amended, will not have a significant economic impact on a substantial number of small entities, because they apply to federal employees, Federal agencies, and labor organizations representing Federal employees.

Unfunded Mandates Reform Act of 1995

These regulatory changes will not result in the expenditure by state, local, and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

These rules are not major rules as defined by section 804 of the Small Business Regulatory Enforcement Fairness Act of 1996. These rules will not result in an annual effect on the economy of $100,000,000 or more; a major increase in costs or prices; or significant adverse effects on competition, employment, investment, productivity, innovation, or on the ability of United States-based companies to compete with foreign-based companies in domestic and export markets.

Paperwork Reduction Act of 1995

These regulations contain no information collection or recordkeeping requirements under the Paperwork Reduction Act of 1995 (44 U.S.C. 3507 et seq.)

CHAPTER XIV—FEDERAL LABOR RELATIONS AUTHORITY

For the reasons set out in the preamble and under the authority of 5 U.S.C. 7134, these provisions are amended as follows:

PART 2424—NEGOTIABILITY PROCEEDINGS

1. The authority citation for Part 2424 continues to read as follows:

Authority: 5 U.S.C. 7134.

2. Section 2424.10 is amended by revising telephone number (202) 482-6503 to read (202) 218-7969.

PART 2429—MISCELLANEOUS AND GENERAL REQUIREMENTS

3. The authority citation for Part 2429 continues to read as follows:

Authority: 5 U.S.C. 7134; § 2429.18 also issued under 28 U.S.C. 2112(a).

4. Section 2429.24(a) is amended by revising telephone number (202) 482-6540 to read (202) 218-7740.

PART 2471—PROCEDURES OF THE PANEL

5. The authority citation for Part 2471 continues to read as follows:

Authority: 5 U.S.C. 7119, 7134.

6. Section 2471.2 is amended by revising telephone number (202) 482-6670 to read (202) 218-7790.

7. Section 2471.4 is amended by revising telephone number (202)482-6670 to read (202) 218-7790.

PART 2472—IMPASSES ARISING PURSUANT TO AGENCY DETERMINATIONS NOT TO ESTABLISH OR TO TERMINATE FLEXIBLE OR COMPRESSED WORK SCHEDULES

8. The authority citation for Part 2472 continues to read as follows:

Authority: 5 U.S.C. 6131.

9. Section 2472.3 is amended by revising telephone number (202) 482-6670 to read (202) 218-7790.

10. Section 2472.5 is amended by revising telephone number (202) 482-6670 to read (202) 218-7790.

Appendix A to 5 CFR Ch. XIV—Current Addresses and Geographic Jurisdictions

11. Appendix A to 5 CFR Ch. XIV, paragraph(a) is amended by revising telephone number (202)482-6540 to read (202) 218-7740.

12. Appendix A to 5 CFR Ch. XIV, paragraph(b) is amended by revising telephone number (202) 482-6600 to read (202) 218-7910.

13. Appendix A to 5 CFR Ch. XIV, paragraph(c) is amended by revising telephone number (202) 482-6630 to read (202) 218-7950.

14. Appendix A to 5 CFR Ch. XIV, paragraph(e) is amended by revising telephone number (202) 482-6670 to read (202) 218-7790.

Dated: April 30, 2003.
Yvonne Thomas,
Director, Administrative Services Division, Federal Labor Relations Authority.

[FR Doc. 03-11079 Filed 5-5-03; 8:45 am]

BILLING CODE 6727-01-P